DEPARTMENT OF HEALTH AND HUMAN SERVICES

Centers for Disease Control and Prevention

[Docket No. CDC-2018-0057]

Notice of Availability of Draft Environmental Impact Statement, Public Meeting, and Request for Comments; Acquisition of Site for Development of a Replacement Underground Safety Research Program Facility for the Centers for Disease Control and Prevention/National Institute for Occupational Safety and Health (CDC/NIOSH) in Mace, West Virginia

AGENCY: Centers for Disease Control and Prevention (CDC), Department of Health and Human Services (HHS).

ACTION: Notice of availability; announcement of public meeting; and request for comments.

SUMMARY: The Centers for Disease Control and Prevention (CDC) within the Department of Health and Human Services (HHS), in cooperation with the General Services Administration (GSA), announces the availability of a Draft Environmental Impact Statement (EIS) for the proposed acquisition of a site in Mace, West Virginia, and the development of this site into a replacement for the National Institute for Occupational Safety and Health (NIOSH) Underground Safety Research Program facility (Proposed Action). The proposed acquisition and development would replace the former Lake Lynn Experimental Mine in Fayette County, Pennsylvania, and would support research programs focused on miner health and safety issues. The site being considered for acquisition and development includes 461.35 acres located off U.S. Route 219 in Randolph and Pocahontas Counties near Mace, West Virginia (Site).

The Draft EIS and this notice are published pursuant to the requirements of the National Environmental Policy Act of 1969 (NEPA) as implemented by the Council on Environmental Quality (CEQ) Regulations (40 CFR parts 1500-1508). In parallel with the NEPA process, CDC is also conducting consultation under Section 106 of the National Historic Preservation Act to evaluate the potential effects, if any, of the Proposed Action on historic properties.

A Notice of Intent for this Draft EIS was published in the Federal Register on June 14, 2018 (83 FR 27781).

DATES:

Public Meeting: A public meeting in open house format will be held on March 6, 2019, in Slatyfork, West Virginia, to present the findings of the Draft EIS and to solicit comments. The meeting will begin at 5:30 p.m. and end no later than 8:30 p.m. In case of inclement weather, please send an email to cdc-macewv-eis@cdc.gov or call (770) 488-8170 to check on the status of the meeting.

Written comments: Written public comments must be submitted by 11:59 p.m. on April 5, 2019.

Deadline for Requests for Special Accommodations: Persons wishing to participate in the public meeting who need special accommodations should contact Sam Tarr at 770-488-8170 by 5:00 p.m. Eastern Time, February 27, 2019.

ADDRESSES: The public scoping meeting will be held at the Linwood Community Library, 72 Snowshoe Drive, Slatyfork, West Virginia 26291.

Copies of the Draft EIS can be obtained at:

• Federal eRulemaking Portal: http://www.regulations.gov (reference Docket No. CDC-2018-0057).

• Linwood Community Library, 72 Snowshoe Drive, Slatyfork, West Virginia 26291.

• By written request (electronic copies only) to: cdc-macewv-eis@cdc.gov.

You may submit comments identified by Docket No. CDC-2018-0057 by either of the following methods:

• Federal eRulemaking Portal: http://www.regulations.gov (Follow the instructions for submitting comments).

• U.S. Mail: Sam Tarr, Office of Safety, Security, and Asset Management (OSSAM), Centers for Disease Control and Prevention, 1600 Clifton Road NE, MS-K80, Atlanta, Georgia 30329-4027.

Instructions: All submissions must include the agency name and Docket Number. All relevant comments received will be posted to http://www.regulations.gov (personally identifiable information, except for first and last names, will be redacted). For access to the docket to review background documents or comments received, go to http://www.regulations.gov.

FOR FURTHER INFORMATION CONTACT:

Sam Tarr, Office of Safety, Security, and Asset Management (OSSAM), Centers for Disease Control and Prevention, 1600 Clifton Road NE, MS-K80, Atlanta, Georgia 30329-4027, phone: (770) 488-8170, or email: cdc-macewv-eis@cdc.gov.

SUPPLEMENTARY INFORMATION: Background: CDC is dedicated to protecting health and promoting quality of life through the prevention and control of disease, injury, and disability. NIOSH, one of CDC's Centers, Institutes, and Offices, was established by the Occupational Safety and Health Act of 1970. NIOSH plans, directs, and coordinates a national program to develop and establish recommended occupational safety and health standards, conduct research and training, provide technical assistance, and perform related activities to ensure safe and healthful working conditions for every working person in the United States.

In 1997, when the mine safety and health function was transferred from the Bureau of Mines (BOM) to NIOSH, NIOSH took over the lease for a facility referred to as the Lake Lynn Experimental Mine (LLEM). BOM had leased the LLEM facility since 1982. The LLEM is located 60 miles south of Pittsburgh, Pennsylvania. The LLEM and its aboveground fire testing facility were primarily used for studies and research on mine explosions, mine seals, mine rescue, ventilation, diesel exhaust, new health and safety technologies, ground control, and fire suppression. After December 2012, the property was no longer available for long-term leasing. CDC attempted to purchase the LLEM underlying property, but NIOSH vacated the LLEM after market-based purchase offers were rejected by the property owners.

In 2013, CDC completed a Project Development Study to outline a design solution to replace the LLEM. The study presented the facility and site requirements and design concepts for the replacement facilities. In 2016, to identify potentially available locations that could accommodate the space requirements defined in the 2013 study, GSA issued (on behalf of CDC) two separate Requests for Expressions of Interest (REOI) for a site, developed or undeveloped, that could be used for the new underground safety research facility. The first REOI, advertised in June 2016, contained a limited delineated area within a 200-mile radius of the LLEM. The REOI set forth criteria that would be used to evaluate the suitability of the submitted sites. One expression of interest that had the potential to meet the minimum criteria was received. After further evaluation, however, the site was found to be non-viable.

The second REOI was issued in October 2016 and expanded the delineated area to the entire contiguous United States. Three expressions of interest were received for sites in Kentucky, Missouri, and West Virginia. The Kentucky site did not meet the minimum criteria, and the Missouri site expression of interest did not contain all necessary information to evaluate. The offeror of the Missouri site did not respond to subsequent GSA inquiries.

The potential site in West Virginia met the minimum criteria and was determined to be a viable site. The site is located near Mace, West Virginia, and straddles the Randolph and Pocahontas County lines.

In accordance with NEPA, as implemented by the CEQ regulations (40 CFR parts 1500-1508), with GSA as a cooperating agency, CDC prepared a Draft EIS for the proposed acquisition of the Site and construction of a new underground safety research facility on the Site. Under NEPA, federal agencies are required to evaluate the environmental effects of their proposed actions and a range of reasonable alternatives to the proposed action before making a decision. The Draft EIS evaluates the following two alternatives: the Proposed Action Alternative (acquisition of the Site and construction of a new underground safety research facility) and the No Action Alternative. No other alternatives were considered because only one qualifying site was identified through the site selection process discussed above.

Impacts on the following resources are considered in the Draft EIS: Noise and vibration; geology, topography, and soils; water resources; utilities and infrastructure; and biological resources—vegetation and threatened and endangered species. Cultural resources were dismissed because a phase I archaeological reconnaissance survey identified one isolated artifact and confirmed low potential for additional archaeological resources. Viewshed and vibration analyses indicated that the potential for affecting historic structures would be negligible. No observable direct impacts on cultural resources are anticipated. Section 106 consultation under the National Historic Preservation Act is ongoing and will be documented in the record of decision. The status of the Section 106 consultation process to date is documented in Chapter 1 of the Draft EIS.

The purpose of this notice is to inform interested parties regarding the availability of the Draft EIS for review and to solicit comments. To facilitate public comments, a public meeting will be held on March 6, 2019, at the Linwood Community Library, 72 Snowshoe Drive, Slatyfork, West Virginia 26291, from 5:30 p.m. to 8:30 p.m. Eastern Standard Time. The public meeting will be an open house format. Copies of the draft EIS will be available at the meeting, and poster stations will provide a summary of the NEPA process and the findings of the EIS. Representatives of CDC and GSA will be available to answer one-on-one questions. There will be no formal presentation or formal testimonies. Participants may arrive at any time between 5:30 p.m. and 8:30 p.m. Eastern Time. Comment forms will be provided for written comments, and a stenographer will be available to transcribe one-on-one oral comments.

After the public comment period ends, CDC will consider all comments received, revise the Draft EIS to address these comments, select a preferred alternative, and issue a Final EIS. CDC will consider the Final EIS when deciding whether to proceed with the proposed site acquisition and campus development.

Dated: February 6, 2019.
Sandra Cashman,
Executive Secretary, Centers for Disease Control and Prevention.

[FR Doc. 2019-01910 Filed 2-13-19; 8:45 am]

BILLING CODE 4163-18-P